DEPARTMENT OF THE INTERIOR

National Park Service

[NPS-WASO-NAGPRA-NPS0024102; PPWOCRADN0-PCU00RP14.R50000]

Notice of Inventory Completion: Wisconsin Historical Society, Madison, WI

AGENCY: National Park Service, Interior.

ACTION: Notice.

SUMMARY: The Wisconsin Historical Society has completed an inventory of human remains and associated funerary objects, in consultation with the appropriate Indian Tribes or Native Hawaiian organizations, and has determined that there is no cultural affiliation between the human remains and associated funerary object and any present-day Indian Tribes or Native Hawaiian organizations. Representatives of any Indian Tribe or Native Hawaiian organization not identified in this notice that wish to request transfer of control of these human remains and associated funerary object should submit a written request to the Wisconsin Historical Society. If no additional requestors come forward, transfer of control of the human remains and associated funerary object to the Indian Tribes or Native Hawaiian organizations stated in this notice may proceed.

DATES: Representatives of any Indian Tribe or Native Hawaiian organization not identified in this notice that wish to request transfer of control of these human remains and associated funerary object should submit a written request with information in support of the request to the Wisconsin Historical Society at the address in this notice by November 16, 2017.

ADDRESSES: Jennifer Kolb, Wisconsin Historical Society, 816 State St., Madison, WI 53706, telephone (608) 264-6434, email Jennifer.Kolb@wisconsinhistory.org.

SUPPLEMENTARY INFORMATION: Notice is here given in accordance with the Native American Graves Protection and Repatriation Act (NAGPRA), 25 U.S.C. 3003, of the completion of an inventory of human remains and associated funerary objects under the control of the Wisconsin Historical Society, Madison, WI. The human remains and associated funerary object were removed from the Water Street Cemetery, Marinette County, WI.

This notice is published as part of the National Park Service's administrative responsibilities under NAGPRA, 25 U.S.C. 3003(d)(3) and 43 CFR 10.11(d). The determinations in this notice are the sole responsibility of the museum, institution, or Federal agency that has control of the Native American human remains and associated funerary object. The National Park Service is not responsible for the determinations in this notice.

Consultation

A detailed assessment of the human remains was made by the Wisconsin Historical Society professional staff in consultation with representatives of the Forest County Potawatomi Community, Wisconsin; Ho-Chunk Nation of Wisconsin; Lac du Flambeau Band of Lake Superior Chippewa Indians of the Lac du Flambeau Reservation of Wisconsin; Menominee Indian Tribe of Wisconsin; and the Upper Sioux Community, Minnesota.

History and Description of the Remains

In 1992, human remains representing, at minimum, one individual were removed from the historic Water Street Cemetery (47-MT-0288) in Marinette County, WI. Human remains were discovered by a construction crew digging under an existing gas and sewer line. The human remains were taken to the City of Marinette Police Department, whose personnel went to the site and uncovered the burial again, but did not conduct further excavations. The Police Department subsequently contacted the Wisconsin Burial Site Preservation Office (BSPO). Representatives of the BSPO and the Neville Public Museum screened the back dirt and excavated the area of the burial where they recovered wood from a coffin and the partial remains of one adult male. No known individuals were identified. The one associated funerary object is an assemblage of coffin wood.

Determinations Made by the Wisconsin Historical Society

Officials of the Wisconsin Historical Society have determined that:

• Pursuant to 25 U.S.C. 3001(9), the human remains described in this notice are Native American based on Wisconsin Historical Society records, burial location, archeological context, oral histories, and skeletal analysis.

• Pursuant to 25 U.S.C. 3001(9), the human remains described in this notice represent the physical remains of one individual of Native American ancestry.

• Pursuant to 25 U.S.C. 3001(3)(A), the one object described in this notice is reasonably believed to have been placed with or near individual human remains at the time of death or later as part of the death rite or ceremony.

• Pursuant to 25 U.S.C. 3001(2), a relationship of shared group identity cannot be reasonably traced between the Native American human remains and associated funerary object and any present-day Indian Tribe.

• Treaties, Acts of Congress, or Executive Orders indicate that the land from which the Native American human remains and associated funerary object were removed is the aboriginal land of the Bad River Band of the Lake Superior Tribe of Chippewa Indians of the Bad River Reservation, Wisconsin; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Leech Lake Band of the Minnesota Chippewa Tribe, Minnesota; Menominee Indian Tribe of Wisconsin; Mille Lacs Band of the Minnesota Chippewa Tribe, Minnesota; Red Cliff Band of Lake Superior Chippewa Indians of Wisconsin; and the White Earth Band of Minnesota Chippewa Tribe, Minnesota (hereafter referred to as The Aboriginal Land Tribes).

• Pursuant to 43 CFR 10.11(c)(1), the disposition of the human remains and associated funerary object may be to The Aboriginal Land Tribes.

Additional Requestors and Disposition

Representatives of any Indian Tribe or Native Hawaiian organization not identified in this notice that wish to request transfer of control of these human remains and associated funerary object should submit a written request with information in support of the request to Jennifer Kolb, Wisconsin Historical Society, 816 State St., Madison, WI 53706, telephone (608) 264-6434, email Jennifer.Kolb@wisconsinhistory.org, by November 16, 2017. After that date, if no additional requestors have come forward, transfer of control of the human remains and associated funerary object to The Aboriginal Land Tribes may proceed.

The Wisconsin Historical Society is responsible for notifying The Aboriginal Land Tribes and the Forest County Potawatomi Community, Wisconsin; Ho-Chunk Nation of Wisconsin; and the Upper Sioux Community, Minnesota, that this notice has been published.

Dated: September 5, 2017.
Melanie O'Brien,
Manager, National NAGPRA Program.

[FR Doc. 2017-22425 Filed 10-16-17; 8:45 am]

BILLING CODE 4312-52-P